DEPARTMENT OF HOMELAND SECURITY

Coast Guard

33 CFR Part 165

[Docket No. USCG-2017-0501]

Safety Zones; Head of the Cuyahoga Regatta, Cuyahoga River, Cleveland, OH

AGENCY: Coast Guard, DHS.

ACTION: Notice of enforcement of regulation.

SUMMARY: The Coast Guard will enforce a safety zone for the Head of the Cuyahoga regatta, on the Cuyahoga River from 6:45 a.m. through 4:15 p.m. on Saturday, September 16, 2017. This action is necessary to provide for the safety of life and property on navigable waters during this event. During the enforcement period, no person or vessel may enter the respective safety zone without the permission of the Captain of the Port Buffalo.

DATES: The regulation in 33 CFR 165.T09-0082 will be enforced from 6:45 a.m. through 4:15 p.m. on Saturday, September 16, 2017.

FOR FURTHER INFORMATION CONTACT: If you have questions on this notice, call or email LT Ryan Junod, Coast Guard; telephone 216-937-0124, email ryan.s.junod@uscg.mil.

SUPPLEMENTARY INFORMATION: The Coast Guard will enforce the Safety Zone; Cleveland Dragon Boat Festival and Head of the Cuyahoga, Cuyahoga River, Cleveland, OH listed in 33 CFR 165.T09-0082 for the following event:

Head of the Cuyahoga, Cuyahoga River, Cleveland, OH; The safety zone listed in 33 CFR 165.T09-0082 will be enforced from 6:45 a.m. through 4:15 p.m. on September 16, 2017. The safety zone will encompass all waters of the Cuyahoga River, Cleveland, OH between a line drawn perpendicular to the river banks from position 41°29′55″ N., 081°42′23″ W. (NAD 83) just past the Detroit-Superior Viaduct bridge at MM 1.42 of the Cuyahoga River south to a line drawn perpendicular to the river banks at position 41°28′32″ N., 081°40′16″ W. (NAD 83) just south of the Interstate 490 bridge at MM 4.79 of the Cuyahoga River. This action is necessary to provide for the safety of life and property on navigable waters during this event. Pursuant to 33 CFR 165.23, entry into, transiting, or anchoring within these safety zones during an enforcement period is prohibited unless authorized by the Captain of the Port Buffalo or his designated representative. Those seeking permission to enter one of these safety zones may request permission from the Captain of Port Buffalo via channel 16, VHF-FM. Vessels and persons granted permission to enter this safety zone shall obey the directions of the Captain of the Port Buffalo or his designated representative. While within the safety zone, all vessels shall operate at the minimum speed necessary to maintain a safe course.

This notice is issued under authority of 33 CFR 165.T09-0082 and 5 U.S.C. 552(a). In addition to this notice in the Federal Register, the Coast Guard will provide the maritime community with advance notification of these enforcement periods via Broadcast Notice to Mariners and Local Notice to Mariners. If the Captain of the Port Buffalo determines that this safety zone need not be enforced for the full duration stated in this notice, he or she may use a Broadcast Notice to Mariners to grant general permission to enter the respective safety zone.

Dated: July 18, 2017.
Joseph S. Dufresne,
Captain, U.S. Coast Guard, Captain of the Port Buffalo.

[FR Doc. 2017-15504 Filed 7-24-17; 8:45 am]

BILLING CODE 9110-04-P